DEPARTMENT OF TRANSPORTATION

Coast Guard

[USCG-2001-9188]

Proposed Decommissioning and/or Excessing of the Remaining 180-foot Seagoing Buoy Tender Class, and the Proposed Excessing of the Vessel, FIR (WLM 212)

AGENCY: U.S. Coast Guard, DOT.

ACTION: Notice of availability and request for public comments.

SUMMARY: The U.S. Coast Guard announces the availability of a draft Programmatic Environmental Assessment on its proposal to decommission and/or declare excess the remaining vessels in the 180-foot seagoing buoy tender fleet and the proposed excessing of the former United States Coast Guard Cutter, FIR (WLM-212). Comments on the Assessment are encouraged.

DATES: Comments and related material must reach the Docket Management Facility on or before June 7, 2001.

ADDRESSES: To make sure your comments and related material are not entered more than once in the docket, please submit by only one of the following means:

(1) By mail to the Docket Management Facility, (USCG-2001-9188), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as the draft Programmatic Environmental Assessment (PEA), will become part of this docket and will be available for inspection or copying in room PL-401 on the Plaza level of the Nassif Building, 400 Seventh Street SW., Washington, DC, between 9 a.m. and 5 p.m., Monday through Friday, except Federal holidays. You may also find this docket, including the PEA, on the Internet at http://dms.dot.gov.

FOR FURTHER INFORMATION CONTACT: If you have questions on this notice, the proposed project, or the associated assessment, call David Reese, U.S. Coast Guard, telephone 202-267-1942. If you have questions on viewing or submitting material to the docket, call Dorothy Beard, Chief, Dockets, Department of Transportation, telephone 202-366-9329.

SUPPLEMENTARY INFORMATION:

Request for Comments

Comments and related material on the draft PEA are encouraged. Please provide the name and address of the comment originator, identify the docket number for this notice (USCG-2001-9188), and provide background support for each comment. You may submit your comments and material by mail, hand delivery, fax, or electronic means to the Docket Management Facility at the address under ADDRESSES; but please submit your comments and material by only one means. When submitting by mail or hand delivery, submit your comments or material in an unbound format, no larger than 8½ by 11 inches, suitable for copying and electronic filing. If you submit them by mail and would like to know if the comments or material has reached the Facility, please enclose a stamped, self addressed postcard or envelope. The Coast Guard will consider all comments and material received during the comment period.

Proposed Action

The U.S. Coast Guard (USCG) proposes to decommission and/or declare excess the remaining vessels in its aging fleet of 180-foot seagoing buoy tenders and declare the former United States Coast Guard Cutter, FIR (WLM-212) excess to its needs. The USCG has determined that the entire class of 180-foot vessels is eligible for listing in the National Register of Historic Places (NRHP). Additionally, FIR (WLM-212) is a National Historic Landmark listed on the NRHP. The USCG intends to replace the 180-foot WLBs with 175-foot Coastal Buoy Tenders (WLMs) and 225-foot Coastal Buoy Tenders (WLBs). These new vessels will support the same mission requirements as the 180-foot WLBs, with state-of-the-art technology.

While the 180-foot WLBs have contributed to nearly every USCG mission area, their primary contribution has been servicing the Short Range Aids to Navigation System. All 180-foot WLBs are over 50 years of age and further renovation is impractical. Excessive maintenance problems stemming from the age of these vessels are also being experienced with resultant reduced reliability and increased operating costs. The Federal Property Administrative Services Act (FPASA) (40 U.S.C. Chapter 10) requires that excess property be identified and declared as such. Therefore, the USCG has an operational, economic, and legal need to cost-effectively rid itself of obsolete and inefficient vessels that can no longer effectively carry out the USCG missions they were designed for. Consequently, the USCG is proposing to decommission (remove the vessels from active use) and declare the current WLB fleet excess to its needs. In order to declare a vessel excess, the USCG must complete a report of survey that states that the vessel is excess to its needs. The USCG provides the General Services Administration (GSA) with a Standard Form 120 for the excess material. Following submittal to GSA, the standard mandated GSA process for disposing of Federally owned materials ensues. Built in 1939, FIR (WLM 212) is classified as a National Historic Landmark and as such is listed on the NRHP. Homeported for 50 years in Washington State, FIR served buoys, lighthouses, and other navigation aids in the Pacific Northwest. FIR is the last surviving unaltered American lighthouse tender, and was the last working member of the U.S. Lighthouse Service fleet.

The FIR has reached the end of its service life. The vessel is over 50 years of age. Excessive maintenance problems stemming from the age of FIR were experienced with resultant reduced reliability and increased operating costs. As a result of its age and condition, the USCG decommissioned FIR in 1996. At present, the USCG is incurring costs to store the vessel in Suisun Bay, California. As previously stated, it is a requirement of the FPASA that excess property be identified by the USCG and declared as such. Therefore, the USCG has an operational, economic, and legal need to cost effectively rid itself of the obsolete and inefficient FIR.

Draft Programmatic Environmental Assessment

The Coast Guard has prepared a draft Programmatic Environmental Assessment (PEA). The draft PEA identifies and examines the reasonable alternatives to our proposed action and assesses potential environmental impacts. The alternatives analyzed in this PEA were chosen because they fulfilled the need for the USCG to cost effectively and legally rid itself of obsolete and inefficient vessels that can no longer effectively carry out the USCG missions they were designed for. However, the choice of alternatives is limited due to legal mandates requiring a specific excessing and disposal process to be used by the USCG. Certain legal mandates require a specific prioritized process for vessel (personal property) disposal, the majority of which is not controlled by the USCG. In analyzing these alternatives for environmental impact, the PEA looks at the impacts of decommissioning and excessing which we control, and then, generally, at the possible environmental impacts resulting from each component of the mandated disposal process—the connected actions to the decommissioning and/or excessing of our remaining 180-foot vessels and FIR.

This is a programmatic document and cannot foresee all possible site specific and cumulative impacts from the connected actions (largely not under USCG control) to our proposed decommissioning and excessing.

Comments on environmental concerns related to the PEA are encouraged. All comments will be considered in preparing the final PEA.

Dated: April 13, 2001.
Terry M. Cross,
Assistant Commandant for Operations.

[FR Doc. 01-9993 Filed 4-20-01; 8:45 am]

BILLING CODE 4910-15-P